DEPARTMENT OF TRANSPORTATION

National Highway Traffic Safety Administration

[Docket No. NHTSA-2016-0003; Notice 1]

Continental Tire the Americas, LLC, Receipt of Petition for Decision of Inconsequential Noncompliance

AGENCY: National Highway Traffic Safety Administration (NHTSA), Department of Transportation (DOT).

ACTION: Receipt of petition.

SUMMARY: Continental Tire the Americas, LLC (CTA), has determined that certain CTA tires do not fully comply with paragraph S5.5(f) of Federal Motor Vehicle Safety Standard (FMVSS) No. 139 New Pneumatic Radial Tires for Light Vehicles. CTA filed a report dated December 11, 2015, pursuant to 49 CFR part 573, Defect and Noncompliance Responsibility and Reports. CTA then petitioned NHTSA under 49 CFR part 556 requesting a decision that the subject noncompliance is inconsequential to motor vehicle safety.

DATES: The closing date for comments on the petition is April 25, 2016.

ADDRESSES: Interested persons are invited to submit written data, views, and arguments regarding this petition. Comments must refer to the docket and notice number cited in the title of this notice and be submitted by any of the following methods:

• Mail: Send comments by mail addressed to U.S. Department of Transportation, Docket Operations, M-30, West Building Ground Floor, Room W12-140, 1200 New Jersey Avenue SE., Washington, DC 20590.

• Hand Deliver: Deliver comments by hand to U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to http://www.regulations.gov, including any personal information provided.

The petition, supporting materials, and all comments received before the close of business on the closing date indicated above will be filed in the docket and will be considered. All comments and supporting materials received after the closing date will also be filed and will be considered to the extent possible.

When the petition is granted or denied, notice of the decision will also be published in the Federal Register pursuant to the authority indicated at the end of this notice.

All documents submitted to the docket may be viewed by anyone at the address and times given above. The documents may also be viewed on the Internet at http://www.regulations.gov by following the online instructions for accessing the dockets. The docket ID number for this petition is shown in the heading of this notice.

DOT's complete Privacy Act Statement is available for review in the Federal Register published on April 11, 2000, (65 FR 19477-78).

SUPPLEMENTARY INFORMATION: I. Overview: Pursuant to 49 U.S.C. 30118(d) and 30120(h) (see implementing regulations at 49 CFR part 556), CTA submitted a petition for an exemption from the notification and remedy requirements of 49 U.S.C. Chapter 301 on the basis that this noncompliance is inconsequential to motor vehicle safety.

This notice of receipt of CTA's petition is published under 49 U.S.C. 30118 and 30120 and does not represent any agency decision or other exercise of judgment concerning the merits of the petition.

II. Tires Involved: Affected are approximately 1,800 General Tire brand Grabber size LT265/75R16 112/109 Q LRC tires that were manufactured between December 10, 2010 and September 9, 2013.

III. Noncompliance: CTA explains that due to a mold error, the number of tread plies indicated on the sidewall of the subject tires does not match the actual number of plies in the tire construction. The tires are marked “PLIES: TREAD: 2 POLYESTER + 2 STEEL + 2 POLYAMIDE” whereas the correct marking should be: “PLIES: TREAD: 2 POLYESTER + 2 STEEL + 1 POLYAMIDE.” As a consequence, these tires do not meet requirements specified in paragraph S5.5(f) of FMVSS No. 139.

IV. Rule Text: Paragraph S5.5(f) of FMVSS No. 139 states, in pertinent part:

S5.5 Tire Markings. Except as specified in paragraph (a) through (i) of S5.5, each tire must be marked on each sidewall with the information specified in S5.5(a) through (d) and on one sidewall with the information specified in S5.5(e) through (i) according to the phase-in schedule specified in S7 of this standard. . .

(f) The actual number of plies in the sidewall, and the actual number of plies in the tread area, if different.

V. Summary of CTA's Petition: CTA described the subject noncompliance and stated its belief that the noncompliance is inconsequential to motor vehicle safety.

In support of its petition, CTA submitted the following information pertaining to the subject noncompliance:

(a) CTA stated that the tires covered by this petition are labeled with incorrect information regarding the number of tread plies. The company noted that while the number of polyester and steel plies indicated on the sidewall is accurate, the number of polyamide plies indicated is incorrect. The company contended, however, that this mislabeling has no impact on the operational performance of these tires or on the safety of vehicles on which these tires are mounted. The company asserted that the tires meet or exceed all of the performance requirements of FMVSS No. 139.

(b) CTA noted that NHTSA has concluded in response to numerous other petitions that this type of noncompliance is inconsequential to motor vehicle safety. CTA referenced notices that NHTSA has published in the Federal Register granting the following inconsequentiality petitions:

• Petition of Hankook Tire America Corp., 79 FR 30688 (May 28, 2014);

• Petition of Bridgestone Americas Tire Operations, LLC, 78 FR 47049 (August 2, 2013);

• Petition of Cooper Tire & Rubber Company, 78 FR 47050 (August 2, 2013).

(C) CTA states that all tires covered by its petition meet or exceed the performance requirements of FMVSS No. 139, as well as the other labeling requirements of the standard.

(d) CTA also states that it is not aware of any crashes, injuries, customer complaints, or field reports associated with the subject noncompliance.

CTA additionally informed NHTSA that it has quarantined all existing inventory of the tires that contain the noncompliant tire sidewall labeling and has corrected the molds at the manufacturing plant so that no additional tires will be manufactured with the noncompliance.

In summation, CTA believes that the described noncompliance is inconsequential as it relates to motor vehicle safety, and that its petition to be exempted from providing notification of the noncompliance, as required by 49 U.S.C. 30118, and to remedy the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that CTA no longer controlled at the time it determined that the noncompliance existed. However, any decision on this petition does not relieve equipment distributors and dealers from the prohibitions on the sale, offer for sale, or introduction or delivery for introduction into interstate commerce of the noncompliant tires under their control after CTA notified them that the subject noncompliance exists.

Authority: 49 U.S.C. 30118, 30120: Delegations of authority at 49 CFR 1.95 and 501.8.

Jeffrey M. Giuseppe,
Director, Office of Vehicle Safety Compliance.

[FR Doc. 2016-06731 Filed 3-24-16; 8:45 am]

BILLING CODE 4910-59-P